DEPARTMENT OF THE INTERIOR

[Docket No. ONRR-2012-0003]

U.S. Extractive Industries Transparency Initiative Stakeholder Assessment Public Listening Sessions, Webinar and Workshop

AGENCY: Office of the Secretary, Interior.

ACTION: Notice.

SUMMARY: On May 3, 2012, The Department of the Interior (Interior) published a Federal Register Notice (77 FR 26315) announcing the May 18 publication of the United States Extractive Industries Transparency Initiative Stakeholder Assessment and Multi-Stakeholder Group Options. In that notice, Interior announced it would also initiate a public comment period regarding the Assessment, starting May 18, to include public listening sessions, a webinar and a workshop, the details of which would be provided on the Interior Web site and in this Federal Register Notice.

DATES: Submit written comments on or before June 29th, 2012.

The public listening sessions, webinar and workshop dates, times and locations are:

Session 1—Anchorage, Alaska Public Listening Session, 6:00-8:00 pm ADT, May 30, 2012, Bureau of Ocean Energy Management, 3801 Centerpoint Drive, Suite 100, Anchorage, AK 99503-5820, tel. 907-334-5200

Session 2—Public Webinar, 1:00-3:00 pm EDT, June 1, 2012, see www.doi.gov/eiti/for details

Session 3—Pittsburgh, Pennsylvania Public Listening Session, 1:00-3:00 pm EDT, June 11, 2012, Office of Surface Mining Reclamation and Enforcement, Building 3, Parkway Center, Conference Room, 2nd Floor, Pittsburgh, PA 15220, tel. 412-937-2828

Session 4—New Orleans, Louisiana Public Listening Session, 1:00-3:00 pm CDT, June 12, 2012, Bureau of Ocean Energy Management, 1201 Elmwood Park Boulevard, Room 135, New Orleans, LA 70123-2394, tel. 800-200-4853

Session 5—Washington, DC Public Workshop, 10:00am-4:00 pm EDT, June 22, 2012, U.S. Department of the Interior, 1849 C St., NW., Rooms 7000A and B, Washington, DC 20240, tel. 202-254-5573

FOR FURTHER INFORMATION CONTACT: Ben Nussdorf, telephone (202) 254-5573, fax number (202) 254-5589, email benjamin.nussdorf@onrr.gov.

SUPPLEMENTARY INFORMATION: On February 24th, 2012, Interior published a notice in the Federal Register seeking public comment on the formation of a multi-stakeholder group to implement USEITI (74 FR 11151). In that notice, Interior stated that it would hold a series of public listening sessions to provide additional opportunities for public comment. In March, Interior held those listening sessions in St. Louis, Missouri; Denver, Colorado; Houston, Texas; and Washington, DC The Consensus Building Institute (CBI), an independent third-party facilitator, analyzed the input from these four public listening sessions, interviews with potential stakeholders, and written comments that were submitted to Interior. This input has formed the basis of CBI's independent stakeholder assessment and findings regarding options for establishing the U.S. multi-stakeholder group, which will be responsible for implementing USEITI.

Starting May 18, the CBI stakeholder assessment will be available online at www.doi.gov/EITI. Alternatively, you may request a copy of the assessment from Ben Nussdorf, whose contact information is listed previously in this notice. We encourage stakeholders and members of the public to participate in public comment period from May 18-June 29, 2012, to provide feedback on the stakeholder assessment and recommended options for establishing the U.S. multi-stakeholder group. During the May 18-June 29 public comment period, three public listening sessions, a public webinar, and a public workshop will be held as listed previously in this notice. Details on participating in the webinar will be available from Ben Nussdorf and online at www.doi.gov/EITI.

Background: In September 2011, President Barack Obama announced the United States' commitment to participate in the Extractive Industries Transparency Initiative. EITI is a signature initiative of the U.S. National Action Plan for the international Open Government Partnership and offers a voluntary framework for governments and companies to publicly disclose in parallel the revenues paid and received for extraction of oil, gas and minerals owned by the state. The design of each framework is country-specific, and is developed through a multi-year, consensus based process by a multi-stakeholder group comprised of government, industry and civil society representatives. On October 25, President Obama named Secretary of the Interior Ken Salazar as the U.S. Senior Official responsible for implementing USEITI. In response, Secretary Salazar posted a White House blog the same day, committing to work with industry and civil society to implement USEITI. For further information on EITI, please visit the USEITI Web page at http://www.doi.gov/EITI.

Dated: May 16, 2012.
Amy Holley,
Acting Assistant Secretary, Policy, Management and Budget.

[FR Doc. 2012-12303 Filed 5-17-12; 11:15 am]

BILLING CODE 4310-T2-P